DEPARTMENT OF COMMERCE

National Oceanic and Atmospheric Administration

Marine Protected Areas Federal Advisory Committee; Public Meeting

AGENCY: National Ocean Service, NOAA, Department of Commerce.

ACTION: Notice of open meeting.

SUMMARY: Notice is hereby given of a meeting of the Marine Protected Areas Federal Advisory Committee (Committee) in Annapolis, Maryland.

DATES: The meeting will be held Tuesday, April 21, 2009, from 9 a.m. to 5:30 p.m., Wednesday, April 22, from 8:30 a.m. to 5 p.m., and Thursday, April 23, from 8:30 a.m. to 4:30 p.m. These times and the agenda topics described below are subject to change. Refer to the Web page listed below for the most up-to-date meeting agenda.

ADDRESSES: The meeting will be held at the Historic Inns of Annapolis, 58 State Circle, Annapolis, Maryland.

FOR FURTHER INFORMATION CONTACT: Lauren Wenzel, Designated Federal Officer, MPA FAC, National Marine Protected Areas Center, 1305 East West Highway, Silver Spring, Maryland 20910. (Phone: 301-713-3100 x136, Fax: 301-713-3110); e-mail: lauren.wenzel@noaa.gov; or visit the National MPA Center Web site at http://www.mpa.gov).

SUPPLEMENTARY INFORMATION: The Committee, composed of external, knowledgeable representatives of stakeholder groups, was established by the Department of Commerce (DOC) to provide advice to the Secretaries of Commerce and the Interior on implementation of Section 4 of Executive Order 13158 on MPAs. The meeting will be open to public participation from 4:45 p.m. to 5:30 p.m. on Tuesday, April 21, 2009, and from 8:35 a.m. to 9:15 a.m. on Thursday, April 23, 2009. In general, each individual or group will be limited to a total time of five (5) minutes. If members of the public wish to submit written statements, they should be submitted to the Designated Federal Official by April 17, 2009.

Matters to be Considered: The Committee will hear a panel presentation and discussion on evaluation of the national system, and will consider draft reports and recommendations from the Scientific and Technical Subcommittee and the Review and Evaluation Subcommittee. It will also hear an update on NOAA's Next Generation Strategic Plan and presentations on the development of the national system of marine protected areas, including the gap analysis processes and education and outreach initiatives. Representatives from NOAA and the Department of Interior have been invited to present on the Administration's vision for ocean conservation. Committee members and the public are also invited to attend a ceremony to announce the first sites accepted into the National System of Marine Protected Areas. The agenda is subject to change. The latest version will be posted at http://www.mpa.gov.

Dated: March 25, 2009.
David M. Kennedy,
Director, Office of Ocean and Coastal Resource Management.

[FR Doc. E9-7234 Filed 3-31-09; 8:45 am]

BILLING CODE